DEPARTMENT OF COMMERCE

International Trade Administration

[A-580-868]

Large Residential Washers From the Republic of Korea: Final Results of the First Five-Year Sunset Review of the Antidumping Duty Order

AGENCY: Enforcement and Compliance, International Trade Administration, Department of Commerce.

SUMMARY: The Department of Commerce (Commerce) finds that revocation of the antidumping duty (AD) order on large residential washers from the Republic of Korea (Korea) would be likely to lead to continuation or recurrence of dumping at the levels indicated in the “Final Results of Sunset Review” section of this notice.

DATES: Applicable October 18, 2018.

FOR FURTHER INFORMATION CONTACT: David Goldberger, AD/CVD Operations, Office II, Enforcement and Compliance, International Trade Administration, U.S. Department of Commerce, 1401 Constitution Avenue NW, Washington, DC 20230; telephone: 202-482-4136.

SUPPLEMENTARY INFORMATION:

Background

On April 26, 2018, Commerce published the Preliminary Results of the sunset review,¹ finding that dumping was likely to continue or recur if the Order ² were revoked and determined that revocation of the Order would be likely to lead to continuation or recurrence of dumping at the magnitude of weighted-average margins up to 82.41 percent.³ We invited interested parties to comment on the Preliminary Results. We received a case brief from LG Electronics Inc. (LGEKR), LG Electronics U.S.A., Inc. (LGEUS), and LG Electronics Alabama, Inc. (LGEAI) (collectively LGE), representing the respondent interested parties on May 29, 2018, and a rebuttal brief from the domestic interested party, Whirlpool Corporation (Whirlpool), on June 4, 2018.

¹ See Large Residential Washers from the Republic of Korea: Preliminary Results of the First Five-Year Sunset Review of the Antidumping Duty Order, 83 FR 18275 (April 26, 2018) (Preliminary Results) and accompanying Preliminary Decision Memorandum.

² See Large Residential Washers from Mexico and the Republic of Korea: Antidumping Duty Orders, 78 FR 11148 (February 15, 2013) (Order).

³ See Preliminary Results, 83 FR at 18276.

Scope of the Order

The products covered by the Order are all large residential washers and certain subassemblies thereof from Korea. The products are currently classifiable under subheadings 8450.20.0040 and 8450.20.0080 of the Harmonized Tariff Schedule of the United States (HTSUS). Products subject to this order may also enter under HTSUS subheadings 8450.11.0040, 8450.11.0080, 8450.90.2000, and 8450.90.6000. Although the HTSUS subheadings are provided for convenience and customs purposes, the written description of the merchandise subject to this scope is dispositive.⁴

⁴ For a complete description of the Scope of the Order, see Memorandum, “Issues and Decision Memorandum for the Final Results of First Sunset Review of the Antidumping Duty Order on Large Residential Washers from the Republic of Korea,” dated concurrently with this notice (Issues and Decision Memorandum).

Analysis of Comments Received

All issues raised for the final results of this sunset review are addressed in the Issues and Decision Memorandum, dated concurrently with this final notice, which is hereby adopted by this notice. The issues discussed in the Issues and Decision Memorandum include the likelihood of the continuation or recurrence of dumping and the magnitude of the margins of dumping likely to prevail. A list of the issues addressed in the Issues and Decision Memorandum is included in the Appendix to this notice. The Issues and Decision Memorandum is a public document and is on file electronically via Enforcement and Compliance's Antidumping and Countervailing Duty Centralized Electronic Service System (ACCESS). ACCESS is available to registered users at http://access.trade.gov and in the Central Records Unit, room B8024 of the main Department of Commerce building. In addition, a complete version of the Issues and Decision Memorandum can be accessed directly on the internet at http://enforcement.trade.gov/frn/. The signed and electronic versions of the Issues and Decision Memorandum are identical in content.

Final Results of Sunset Review

We determine that revocation of the AD Order on large residential washers from Korea would be likely to lead to a continuation or recurrence of dumping at weighted-average margins up to 82.41 percent.

Notification to Interested Parties

This notice also serves as the only reminder to parties subject to an administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing the final results of this full sunset review, in accordance with sections 751(c)(5)(A), 752(c), and 777(i) of the Tariff Act of 1930, as amended, and 19 CFR 351.218(f)(3).

Dated: September 4, 2018.
Gary Taverman,
Deputy Assistant Secretary for Antidumping and Countervailing Duty Operations, performing the non-exclusive functions and duties of the Assistant Secretary for Enforcement and Compliance.

Appendix

List of Topics Discussed in the Issues and Decision Memorandum

1. Summary

2. Background

3. Scope of the Order

4. Discussion of the Issues

Comment 1: Whether Commerce's Preliminary Conclusion that Revocation of the Antidumping Order Would be Likely to Lead to Continuation or Recurrence of Dumping is Contradicted by the Evidentiary Record and Contrary to Law

Comment 2: Whether Commerce's Preliminary Conclusion that, Upon Revocation, LGE Would Engage in Dumping of 82.41 Percent is Contrary to Law and Contradicted by the Evidentiary Record

5. Recommendation

[FR Doc. 2018-22635 Filed 10-17-18; 8:45 am]

BILLING CODE 3510-DS-P